DEPARTMENT OF COMMERCE

National Oceanic and Atmospheric Administration

Agency Information Collection Activities; Submission to the Office of Management and Budget (OMB) for Review and Approval; Comment Request; Weather.gov Visitor Experience Survey

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before September 19, 2022.

ADDRESSES: Interested persons are invited to submit written comments to Adrienne Thomas, NOAA PRA Officer, at Adrienne.Thomas@noaa.gov. Please reference OMB Control Number 0648-xxxx in the subject line of your comments. Do not submit Confidential Business Information or otherwise sensitive or protected information.

FOR FURTHER INFORMATION CONTACT: Requests for additional information or specific questions related to collection activities should be directed to Dr. Tyra Brown Harris, Project Manager, DOC/NOAA/NWS/DISS, 11691 SW 17th Street, Miami, FL 33165-2149, (202) 468-8972, tyra.brown@noaa.gov.

SUPPLEMENTARY INFORMATION:

I. Abstract

This is a request for a new collection of information.

The data collection is sponsored by DOC/NOAA/National Weather Service (NWS)/Office of Dissemination (DISS) in consultation with the NWS Communications Division. Weather.gov is the main entry point to NWS forecasts, warnings, and other information for a diverse user community, including the public, partners and emergency managers, academia, researchers, and employees. The user interface is intended to serve many purposes for these audiences but regular feedback through Customer Satisfaction Surveys from all users emphasizes varying levels of difficulty locating basic information. Such difficulty diminishes the overall customer experience. Additionally, during high impact events, Weather.gov is known to suffer performance issues due to increased traffic.

The Weather.gov Survey is permitted under 15 U.S.C. Ch. 111, Weather Research and Forecasting Information. It also advances the NWS Strategic Plan (2019-2022) “Transformative Impact-Based Decision Support Services (IDSS) and Research to Operations and Operations to Research (R2O/O2R). The Survey also addresses the NWS Weather Ready Nation (WRN) Roadmap (2013) Sections 1.1.1, 1.1.2, 1.1.3, 1.1.8, and 3.1.4.

The purpose of this collection is to help determine the appropriate web content for weather.gov so the customer experience can be improved and the content can be better accessed and used. NWS is looking to improve functionality, ease of use, and formatting but feedback on any other areas of weather.gov that NWS should consider updating is welcome as well. The collection will create a high-level data requirements document that identifies a set of high-priority NWS products, services, and observations that provide mission-critical, timely, and reliable information to make decisions with when seconds count. The document will also identify high-level partner requirements for accessibility (mobile versus desktop), timeliness, and reliability.

This information would be collected on a one-off basis and analyzed by Forrester Research, who has assisted NWS in creating a survey instrument and would provide NWS with a summary of findings, raw data and access to interactive “dashboards”, or tools, to visualize the aggregated data. Respondents include the general public, defined as (adults ages 18+) who reside in the United States, as well as NWS partners. Forrester will oversee recruitment of U.S. adults by an online market research company that aggregates large panels of people who sign up to complete internet surveys. Respondents will be asked questions about their preferred way of getting weather information (including weather on regular days and during severe/hazardous weather), their use of Weather.gov and other weather websites, interest in different types of weather information on a website, priorities and preferences in accessing weather-related information online, and preferred format of receiving weather information. This data collection serves many purposes, including gaining a better understanding of the online weather information needs (including information about hazardous weather) of different customer groups, including historically underserved and socially vulnerable communities, how they prefer to receive this information, how they would like the Weather.gov main page to be organized, what additional functionality they expect that would make them feel better prepared for hazardous weather, and has the potential to explore possible correlations and causal relationships with other observed variables of interest. This data will be used by the OSTI in NWS to develop a set of website content requirements to improve the structure and navigation on Weather.gov.

II. Method of Collection

Since the primary objective is to inform website content requirements for Weather.gov, the method of data collection will be a web-based survey interface. Survey sample respondents (from an online panel) will be nationally representative, using demographic questions captured in the survey to set quotas that mirror the distribution of demographic groups in the U.S. and Territories. The survey will be translated to Spanish.

III. Data

OMB Control Number: 0648-XXXX.

Form Number(s): None.

Type of Review: Regular (New information collection).

Affected Public: Individuals and Households.

Estimated Number of Respondents: 14,750.

Estimated Time per Response: Weather.gov Survey: 15 minutes.

Estimated Total Annual Burden Hours: 3,688.

Estimated Total Annual Cost to Public: None.

Respondent's Obligation: Voluntary.

Legal Authority: 15 U.S.C. Ch. 111, Weather Research and Forecasting Information.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-15365 Filed 7-18-22; 8:45 am]

BILLING CODE 3510-KE-P